DEPARTMENT OF DEFENSE

Office of the Secretary

[Transmittal No. 20-32]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-32 with attached Policy Justification and Sensitivity of Technology.

Dated: August 24, 2020.
Aaron T. Siegel,
Alternate OSD Federal Register Liaison Officer, Department of Defense.

BILLING CODE 5001-06-P

BILLING CODE 5001-06-C

Transmittal No. 20-32

Notice of Proposed Issuance of Letter of Offer Pursuant to Section 36(b)(1) of the Arms Export Control Act, as amended

(i) Prospective Purchaser: Government of Kuwait

(ii) Total Estimated Value:

Major Defense Equipment * | $ 52.0 million
Other | $ 7.6 million
Total | $ 59.6 million

(iii) Description and Quantity or Quantities of Articles or Services under Consideration for Purchase:

Major Defense Equipment (MDE):

Ten thousand two hundred sixty (10,260) 120MM M865 Target Practice Cone

Stabilized Discarding Sabot Tracer (TPCSDS-T) Cartridges

Nine thousand eight hundred ten (9,810) 120MM M1002 Target Practice

Multipurpose Tracer (TPMP-T) Cartridges

Non-MDE: Two hundred fifteen thousand (215,000) 50 Caliber, 4 Ball, 1 Tracer Cartridges; six hundred thousand (600,000) 7.62MM 4 Ball, M80/1 Tracer, M62 Linked Cartridges; containers; munitions; support and test equipment; integration and test support; spare and repair parts; U.S. Government and contractor engineering, technical and logistics support services; and other related elements of logistical and program support.

(iv) Military Department: KU-B-UXE

(v) Prior Related Cases, if any: None

(vi) Sales Commission, Fee, etc., Paid, Offered, or Agreed to be Paid: None

(vii) Sensitivity of Technology Contained in the Defense Article or Defense Services Proposed to be Sold: None

(viii) Date Report Delivered to Congress: July 28, 2020

*As defined in Section 47(6) of the Arms Export Control Act.

POLICY JUSTIFICATION

Kuwait—M1A2K Training Ammunition

The Government of Kuwait has requested to buy ten thousand two hundred sixty (10,260) 120MM M865 Target Practice Cone Stabilized Discarding Sabot Tracer (TPCSDS-T) Cartridges and nine thousand eight hundred ten (9,810) 120MM M1002 Target Practice Multipurpose Tracer (TPMP-T) Cartridges. Also included are two hundred fifteen thousand (215,000) 50 Caliber, 4 Ball, 1 Tracer Cartridges; six hundred thousand (600,000) 7.62MM 4 Ball, M80/1 Tracer, M62 Linked Cartridges; containers; munitions; support and test equipment; integration and test support; spare and repair parts; U.S. Government and contractor engineering, technical and logistics support services; and other related elements of logistical and program support. The estimated total cost is $59.6 million.

The proposed sale will support the foreign policy and national security of the United States by helping to improve the security of a Major Non-NATO Ally that is an important force for political stability and economic progress in the Middle East.

The proposed sale will improve Kuwait's capability to meet current and future threats by enabling continued employment of the M1A2 Abrams main battle tank and supporting modernization of the country's tank fleet. The training ammunition will be used to qualify Kuwait's M1A2 tanks, which will enhance Kuwait's ability to protect border regions and key land-based infrastructure. Kuwait will have no difficulty absorbing these training rounds into its armed forces.

The proposed sale of this equipment and support will not alter the basic military balance in the region.

The principal contractor will be BAE Systems, York, PA. There are no known offset agreements proposed in connection with this potential sale.

Implementation of this proposed sale will not require the assignment of any additional U.S. Government or contractor representatives to Kuwait.

There will be no adverse impact on U.S. defense readiness as a result of this proposed sale.

Transmittal No. 20-32

Notice of Proposed Issuance of Letter of Offer Pursuant to Section 36(b)(1) of the Arms Export Control Act

Annex

Item No. vii

(vii) Sensitivity of Technology:

1. The 120MM M865 Target Practice Cone Stabilized Discarding Sabot Tracer (TPCSDS-T) Cartridge is a training round for the M1A2K Abrams tank.

2. The 120MM M1002 Target Practice Multipurpose Tracer (TPMP-T) Cartridge is a training round for the M1A2K Abrams tank.

3. The highest level of classification of defense articles, components, and services included in this potential sale is UNCLASSIFIED.

4. If a technologically advanced adversary were to obtain knowledge of the specific hardware and software elements, the information could be used to develop countermeasures that might reduce weapon system effectiveness or be used in the development of a system with similar or advanced capabilities.

5. A determination has been made that the Government of Kuwait can provide substantially the same degree of protection for the sensitive technology being released as the U.S. Government. This sale is necessary in furtherance of the U.S. foreign policy and national security objectives outlined in the Policy Justification.

6. All defense articles and services listed in this transmittal have been authorized for release and export to the Government of Kuwait.

[FR Doc. 2020-18960 Filed 8-27-20; 8:45 am]

BILLING CODE 5001-06-P